NATIONAL FOUNDATION ON THE ARTS AND HUMANITIES

Cooperative Agreement for the Management and Administration of the Coming Up Taller Awards.

AGENCY: National Endowment for the Arts, NFAH.

ACTION: Notification of availability.

SUMMARY: The National Endowment for the Arts is requesting proposals leading to one (1) award of a Cooperative Agreement for the management and administration of the Coming Up Taller Awards. The Coming Up Taller Awards annually honor and bring public attention to approximately ten excellent programs that provide education and practical experience in the arts and humanities for at-risk children and youth. The organizations that receive Coming Up Taller Awards receive a grant award from the National Endowment for the Arts. The responsibilities of the successful recipient of the Cooperative Agreement will include assisting in various aspects of the award selection process, design and production of an award ceremony and related events, development and implementation of a media and public information strategy, and maintenance of a web site. Those interested in receiving the Solicitation package should reference Program Solicitation PS 02-01 in their written request and include two (2) self-addressed labels. Verbal requests for the Solicitation will not be honored. The Program Solicitation will also be posted on the Endowment's Web site at http://www.arts.gov.

DATES: Program Solicitation PS 02-01 is scheduled for release approximately February 19, 2002 with proposals due on March 21, 2002.

ADDRESSES: Requests for the Solicitation should be addressed to the National Endowment for the Arts, Grants & Contracts Office, Room 618, 1100 Pennsylvania Ave., NW., Washington, DC 20506.

FOR FURTHER INFORMATION CONTACT: William Hummel, Grants & Contracts Office, National Endowment for the Arts, Room 618, 1100 Pennsylvania Ave., NW., Washington, DC 20506 (202/682-5482).

William I. Hummel,
Coordinator, Cooperative Agreements.

[FR Doc. 02-2651 Filed 2-4-02; 8:45 am]

BILLING CODE 7537-01-M